DEPARTMENT OF ENERGY

Federal Energy Regulatory Commission

[Docket No. OA99-3-000]

Alcoa Power Generating, Inc.; Notice of Filing

August 24, 2000.

Take notice that on August 2, 2000, Alcoa Power Generating, Inc., submitted revised standards of conduct in response to the Commission's July 3, 2000, Order on Standards of Conduct. 88 FERC ¶ 62,173 (1999).

Alcoa Power Generating, Inc. states that it served copies of the filing on the service list in this proceeding.

Any person desiring to be heard or to protest the filing should file a motion to intervene or protest with the Federal Energy Regulatory Commission, 888 First Street, NE, Washington, DC 20426, in accordance with Rules 211 or 214 of the Commission's Rules of Practice and Procedure (18 CFR 385.211 or 385.214). All such motions and protests should be filed on or before September 8, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-22109 Filed 8-29-00; 8:45 am]

BILLING CODE 6717-01-M